FEDERAL TRADE COMMISSION

Agency Information Collection Activities; Submission for OMB Review; Comment Request

AGENCY: Federal Trade Commission (FTC or Commission).

ACTION: Notice and request for comment.

SUMMARY: In compliance with the Paperwork Reduction Act (PRA) of 1995, the FTC is seeking public comments on its request to OMB for a three-year extension of the current PRA clearance for items (a)-(c) below setting out the information collection requirements pertaining to the Commission's administrative activities. (OMB Control Number 3084-0047). That clearance expires on December 31, 2011.

DATES: Comments must be filed by January 20, 2012.

ADDRESSES: Interested parties may submit written comments by following the instructions in the Request for Comments part of the SUPPLEMENTARY INFORMATION section below. Comments in electronic form should be submitted by using this Web link: https://ftcpublic.commentworks.com/ftc/adminactivitiespra2. Comments in paper form should be mailed or delivered to the following address: Federal Trade Commission, Office of the Secretary, Room H-113 (Annex J), 600 Pennsylvania Avenue NW, Washington, DC 20580.

FOR FURTHER INFORMATION CONTACT: Nicholas Mastrocinque (Nick M) and Ami Dziekan (Ami D), Bureau of Consumer Protection, Federal Trade Commission, H-228, 600 Pennsylvania Avenue NW., Washington, DC 20580, Nick M: (202) 326-3188 and Ami D: (202) 326-2648.

SUPPLEMENTARY INFORMATION:

Title: Administrative Activities.

OMB Control Number: 3084-0047.

Type of Review: Extension of a currently approved collection.

Abstract: The currently approved information collection consists of: (a) Applications to the Commission, including applications and notices contained in the Commission's Rules of Practice (primarily Parts I, II, and IV); (b) the FTC's consumer complaint systems; (c) the FTC's program evaluation activities and (d) the FTC's Applicant Background Form. The Commission is not seeking clearance renewal relating to item (d), the Applicant Background Form.

On September 12, 2011, the Commission sought comment on the information collection requirements in the R-value Rule. 76 FR 56196. No comments were received. As required by OMB regulations, 5 CFR part 1320, the FTC is providing this second opportunity for public comment.

Estimated Annual Hours Burden: 187,114 hours.

Activity | Number respondents | Time/Activity | Total hours
Applications to the Commission | 75 | 2 hours | 150
Misc. and fraud-related consumer complaints (phone) | 262,000 | 6.1min | 26,724
Misc. and fraud-related consumer complaints (online) | 281,000 | 5 min | 23,323
Do-Not-Call related consumer complaints (phone) | 355,000 | 3.0 min | 17,750
Do-Not-Call related consumer complaints (online) | 1,937,000 | 2.5 min | 81,354
Identity theft complaints (phone) | 212,000 | 6.2 min | 21,836
Identity theft complaints (online) | 57,000 | 15 min | 14,250
Customer Satisfaction Questionnaire (phone) | 6,000 | 4.3 min | 432
Customer Satisfaction Questionnaire (online) | 27,000 | 2.7 min | 1,215
Program Evaluations, Review of Divestiture Orders (Respondents) | 15 | 4 hours | 60
Program Evaluations, Review of Divestiture Orders (Monitor Trustees) | 2 | 2 hours | 4
Program Evaluations, Review of Competition Advocacy Program | 20 | 0.75 hour | 15
Totals | 3,137,112 |  | 187,114
* Annual estimate for each of the three years.
** Number of consumer calls and online submissions are calculated by projecting over the 3-year clearance period sought 5% annual growth.

There is more information relating to likely respondents for each type of activity and for total estimated annual labor costs in the 60-Day FR Notice. One correction to annual cost burden for likely respondents for Applications to the Commission is that the annual cost burden is approximately $69,000 (as opposed to the $46,000 set out in the 60-Day FR Notice). This is because the projected annual hours for those likely respondents is 150 and not 100.

Request For Comment

You can file a comment online or on paper. For the Commission to consider your comment, we must receive it on or before January 20, 2012. Write “Administrative Activities: FTC File No. P911409” on your comment. Your comment—including your name and your state—will be placed on the public record of this proceeding, including, to the extent practicable, on the public Commission Web site, at http://www.ftc.gov/os/publiccomments.shtm. As a matter of discretion, the Commission tries to remove individuals' home contact information from comments before placing them on the Commission Web site.

Because your comment will be made public, you are solely responsible for making sure that your comment doesn't include any sensitive personal information, like anyone's Social Security number, date of birth, driver's license number or other state identification number or foreign country equivalent, passport number, financial account number, or credit or debit card number. You are also solely responsible for making sure that your comment doesn't include any sensitive health information, like medical records or other individually identifiable health information. In addition, don't include any “[t]rade secret or any commercial or financial information which is obtained from any person and which is privileged or confidential * * *, ” as provided in Section 6(f) of the FTC Act, 15 U.S.C. 46(f), and FTC Rule 4.10(a)(2), 16 CFR 4.10(a)(2). In particular, don't include competitively sensitive information such as costs, sales statistics, inventories, formulas, patterns, devices, manufacturing processes, or customer names. If you want the Commission to give your comment confidential treatment, you must file it in paper form, with a request for confidential treatment, and you have to follow the procedure explained in FTC Rule 4.9(c), 16 CFR 4.9(c). Your comment will be kept confidential only if the FTC General Counsel, in his or her sole discretion, grants your request in accordance with the law and the public interest.

Postal mail addressed to the Commission is subject to delay due to heightened security screening. As a result, we encourage you to submit your comments online, or to send them to the Commission by courier or overnight service. To make sure that the Commission considers your online comment, you must file it at https://ftcpublic.commentworks.com/ftc/adminactivitiespra2, by following the instructions on the web-based form. If this Notice appears at http://www.regulations.gov, you also may file a comment through that Web site.

If you file your comment on paper, write “Administrative Activities: FTC File No. P911409” on your comment and on the envelope, and mail or deliver it to the following address: Federal Trade Commission, Office of the Secretary, Room H-113 (Annex J), 600 Pennsylvania Avenue NW., Washington, DC 20580. If possible, submit your paper comment to the Commission by courier or overnight service.

Visit the Commission Web site at http://www.ftc.gov to read this Notice and the news release describing it. The FTC Act and other laws that the Commission administers permit the collection of public comments to consider and use in this proceeding as appropriate. The Commission will consider all timely and responsive public comments that it receives on or before January 20, 2012. You can find more information, including routine uses permitted by the Privacy Act, in the Commission's privacy policy, at http://www.ftc.gov/ftc/privacy.shtm.

Comments on the information collection requirements subject to review under the PRA should also be submitted to OMB. If sent by U.S. mail, address comments to: Office of Information and Regulatory Affairs, Office of Management and Budget, Attention: Desk Officer for the Federal Trade Commission, New Executive Office Building, Docket Library, Room 10102, 725 17th Street NW., Washington, DC 20503. Comments sent to OMB by U.S. postal mail, however, are subject to delays due to heightened security precautions. Thus, comments instead should be sent by facsimile to (202) 395-5167.

Willard K. Tom,
General Counsel.

[FR Doc. 2011-32574 Filed 12-20-11; 8:45 am]

BILLING CODE 6750-01-P